ENVIRONMENTAL PROTECTION AGENCY

[FRL-10152-02-R10]

Proposed Reissuance of NPDES General Permit for Federal Aquaculture Facilities and Aquaculture Facilities Located in Indian Country in Washington (WAG130000); Extension of Comment Period

AGENCY: Environmental Protection Agency (EPA).

ACTION: Notice of proposed reissuance of NPDES General Permit and request for public comment; extension of public comment period.

SUMMARY: On September 7, 2022, EPA Region 10 proposed to issue a general permit for Federal Aquaculture Facilities and Aquaculture Facilities Located in Indian Country in Washington. In response to requests from the regulated community, EPA is extending the end of the public comment period from November 7, 2022 to December 22, 2022.

DATES: The comment period for the notice of proposed reissuance of NPDES General Permit published September 7, 2022 (87 FR 54688), is extended. The EPA must receive comments on or before December 22, 2022.

ADDRESSES: Comments and requests regarding the draft general permit must be submitted to epar10wd-npdes@epa.gov with the subject line: Public Comments on WAG130000.

FOR FURTHER INFORMATION CONTACT: Permit documents may be found on the EPA Region 10 website at: https://www.epa.gov/npdes-permits/npdes-general-permit-federal-aquaculture-facilities-and-aquaculture-facilities-located.

Copies of the draft general permit and fact sheet are also available upon request. Requests may be made to Audrey Washington at (206) 553-0523. Requests may also be electronically mailed to: washington.audrey@epa.gov.

Daniel D. Opalski,
Director, Water Division, Region 10.

[FR Doc. 2022-23800 Filed 11-1-22; 8:45 am]

BILLING CODE 6560-50-P